DEPARTMENT OF COMMERCE

International Trade Administration

A-552-801

Certain Frozen Fish Fillets from the Socialist Republic of Vietnam: Extension of Time Limits for the Preliminary Results of the 3rd Administrative Review

AGENCY: Import Administration, International Trade Administration, Department of Commerce.

EFFECTIVE DATE: August 3, 2007.

FOR FURTHER INFORMATION CONTACT: Paul Walker, AD/CVD Operations, Office 9, Import Administration, International Trade Administration, U.S. Department of Commerce, 14th Street and Constitution Avenue, NW., Washington DC 20230; telephone: (202) 482-0413.

SUPPLEMENTARY INFORMATION:

Background

On September 29, 2006, the Department published a notice of initiation of a review of certain frozen fish fillets from the Socialist Republic of Vietnam (“Vietnam”), covering the period August 1, 2005, through July 31, 2006.¹ See Initiation of Antidumping and Countervailing Duty Administrative Reviews, 71 FR 57465 (September 29, 2006).

¹ In accordance with the Circumvention Inquiry, the period of review for Lian Heng Investment Co., Ltd. and Lian Heng Trading Co., Ltd. Is October 22, 2004 through July 31, 2006. See Circumvention and Scope Inquiries on the Antidumping Duty Order on Certain Frozen Fish Fillets from the Socialist Republic of Vietnam: Partial Affirmative Final Determination of Circumvention of the Antidumping Duty Order, Partial Final Termination of Circumvention Inquiry and Final Rescission of Scope Inquiry, 71 FR 38608 (July 7, 2006) (“Circumvention Inquiry”).

Extension of Time Limit of Preliminary Results

The Department determines that completion of the preliminary results of these reviews within the statutory time period is not practicable because the case is extraordinarily complicated. See section 751(a)(2)(B)(iv) of the Act. The Third administrative review covers four companies, and to conduct the sales and factor analyses for each requires the Department to gather and analyze a significant amount of information pertaining to each company's sales practices and manufacturing methods. In addition, two companies involve complicated affiliation and collapsing issues. The Department requires additional time to analyze these issues.

Therefore, given the number and complexity of issues in this case, and in accordance with section 751(a)(3)(A) of the Act, we are extending the time period for issuing the preliminary results of review by 30 days until August 31, 2007. The final results continue to be due 120 days after the publication of the preliminary results.

This notice is published pursuant to section 751(a)(2)(C)(3)(A) of the Act and section 351.214(h)(I)(1) of the Department's regulations.

Dated: July 26, 2007.
Stephen J. Claeys,
Deputy Assistant Secretary for Import Administration.

[FR Doc. E7-15033 Filed 8-2-07; 8:45 am]

BILLING CODE 3510-DS-S